DEPARTMENT OF COMMERCE

National Oceanic and Atmospheric Administration

50 CFR Part 300

[Docket No. 220801-0167; RTID 0648-XD342]

Inseason Action for 2023-2024 Commercial Pacific Bluefin Tuna Biennial Catch Limit in the Eastern Pacific Ocean

AGENCY: National Marine Fisheries Service (NMFS), National Oceanic and Atmospheric Administration (NOAA), Commerce.

ACTION: Inseason announcement of 2023-2024 catch limit.

SUMMARY: NMFS is announcing that the Pacific bluefin tuna (PBF) 2023-2024 biennial catch limit for U.S. commercial fishing vessels in the eastern Pacific Ocean (EPO) is 1,054 metric tons (mt).

DATES: The rule is effective 12 a.m. local time November 3, 2023, through 11:59 p.m. local time December 31, 2024.

FOR FURTHER INFORMATION CONTACT: Tyler Lawson, NMFS West Coast Region, 503-230-5421.

SUPPLEMENTARY INFORMATION: The United States is a member of the Inter-American Tropical Tuna Commission (IATTC), which was established under the Convention for the Establishment of an IATTC signed in 1949 (1949 Convention). The 1949 Convention provides an international agreement to ensure the effective international conservation and management of highly migratory species of fish in the IATTC Convention Area. In 2003, the IATTC updated the 1949 Convention through the adoption of the Convention for the Strengthening of the IATTC Established by the 1949 Convention between the United States of America and the Republic of Costa Rica (Antigua Convention). The IATTC Convention Area, as amended by the Antigua Convention, includes the waters of the EPO bounded by the coast of the Americas, the 50° N and 50° S parallels, and the 150° W meridian.

Fishing for PBF in the EPO is managed, in part, under the Tuna Conventions Act of 1950, as amended (Act), 16 U.S.C. 951 et seq. Under the Act, NMFS must publish regulations to carry out recommendations and decisions of the IATTC in consultation with the Department of State. Regulations implementing conservation and management measures for tuna and tuna-like species in the EPO appear at 50 CFR part 300, subpart C.

On August 5, 2022, the NMFS published a final rule (87 FR 47939) implementing IATTC Resolution C-21-05 (Measures for the Conservation and Management of Pacific Bluefin Tuna in the Eastern Pacific Ocean). That rule established an initial combined catch limit for 2023-2024 of 1,017 mt. Under 50 CFR 300.25(g)(2), that initial catch limit is then either increased by the amount of catch remaining from, or decreased by the amount of catch in excess of, the 2021-2022 biennial catch limit, which was 739 mt. Any increase to the initial 2023-2024 catch limit cannot exceed 37 mt (see § 300.25(g)(2)(i)).

Based on landings data and other information available as of August 22, 2023, 587 mt of PBF were caught by U.S. commercial vessels during the 2021-2022 biennial management period (217 mt in 2021 and 370 mt in 2022). Therefore, in 2023-2024, the catch limit may be increased by 37 mt. Specifically, the 2023-2024 limit is increased from 1,017 to 1,054 mt. During the 2023-2024 biennial management period, the 1 year maximum of 720 mt remains unchanged for 2023. The annual catch limit for 2024 will be announced at the beginning of that year.

Notice of this inseason action that announces the biennial limit has also been posted on the NMFS website: https://www.fisheries.noaa.gov/west-coast/sustainable-fisheries/pacific-bluefin-tuna-commercial-harvest-status.

Classification

There is good cause to waive prior notice and an opportunity for public comment on this action under 5 U.S.C. 553(b)(B), as notice and comment would be impracticable, unnecessary, and contrary to the public interest. Under § 300.25(g)(2), NMFS determines the biennial catch limit for 2023-2024 by adjusting the initial catch limit of 1,017 mt to account for any over-harvest or under-harvest from the 2021-2022 biennial catch limit. The regulation provides NMFS with no discretion in setting the 2023-2024 biennial catch limit; therefore, public comment on this action is impracticable, unnecessary, and contrary to the public interest. Moreover, prior notice and an opportunity for public comment was provided when NMFS promulgated the regulation for determining the 2023-2024 biennial catch limit being implemented here. As previously noted, notification of the 2023-2024 biennial catch limit was also provided to the public through posting on the NMFS website.

This action is exempt from review under Executive Order 12866.

Authority: 16 U.S.C. 951 et seq.

Dated: October 2, 2023.
Jennifer M. Wallace,
Acting Director, Office of Sustainable Fisheries, National Marine Fisheries Service.

[FR Doc. 2023-22219 Filed 10-4-23; 8:45 am]

BILLING CODE 3510-22-P